DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 27, 2006.

Interested persons are invited to submit written comments regarding the subject matter of the investigations to the Director, Division of Trade Adjustment Assistance, at the address shown below, not later than November 27, 2006.

The petitions filed in this case are available for inspection at the Office of the Director, Division of Trade Adjustment Assistance, Employment and Training Administration, U.S. Department of Labor, Room C-5311, 200 Constitution Avenue, NW., Washington, DC 20210.

Signed at Washington, DC, this 1st day of November, 2006.
Linda G. Poole,
Certifying Officer, Division of Trade Adjustment Assistance.

Appendix
[47 TAA petitions instituted between 10/23/06 and 10/27/06]
TA-W | Subject firm (petitioners) | Location | Date of institution | Date of petition
60275 | Statton Furniture Manufacturing (State) | Hagerstown, MD | 10/24/06 | 10/23/06
60276 | Brand ID, LLC (State) | Costa Mesa, CA | 10/24/06 | 10/23/06
60277 | CEP Products (Comp) | Belleville, MI | 10/24/06 | 10/23/06
60278 | Union Tools (Comp) | Frankfort, NY | 10/24/06 | 10/04/06
60279 | Marineland (Comp) | Moorpark, CA | 10/24/06 | 10/20/06
60280 | Parkdale America LLC (Comp) | Eden, NC | 10/24/06 | 10/01/06
60281 | Airtex Products (State) | Marked Tree, AR | 10/24/06 | 10/20/06
60282 | International Truck and Engine Corp. (Union) | Indianapolis, IN | 10/24/06 | 10/17/06
60283 | Parker Hannifin Corp. (IAMAW) | Waukesha, WI | 10/24/06 | 10/20/06
60284 | B and B Swimwear, Inc. (Comp) | Jefferson, NC | 10/24/06 | 10/20/06
60285 | Air Systems Components, LP (Comp) | Richardson, TX | 10/24/06 | 10/20/06
60286 | Himmelberger Harrison Mfg Co. (Wrks) | Morehouse, MO | 10/24/06 | 10/24/06
60287 | IBM Corporation (State) | Rochester, MN | 10/24/06 | 10/20/06
60288 | Pulaski Furniture Corp. (Comp) | Pulaski, VA | 10/25/06 | 10/23/06
60289 | Vesuvius USA (Comp) | Beaver Falls, PA | 10/25/06 | 10/24/06
60290 | TF Global Gasket, LLC (Comp) | Gordonsville, TN | 10/25/06 | 10/24/06
60291 | Photometrics (State) | Tucson, AZ | 10/25/06 | 10/20/06
60292 | Forest City Technologies, Inc. (Wkrs) | Wellington, OH | 10/25/06 | 10/18/06
60293 | Waterloo Industries (State) | Pocahontas, AR | 10/25/06 | 10/24/06
60294 | PMP Fermentation (UAW) | Peoria, IL | 10/25/06 | 10/16/06
60295 | Hickory Springs Mfg. Co. (Wkrs) | Micaville, NC | 10/26/06 | 10/18/06
60296 | Eaton Aerospace (Comp) | Aurora, CO | 10/26/06 | 10/25/06
60297 | Craft Tool and Mold, Inc. (Comp) | South Bend, IN | 10/26/06 | 10/24/06
60298 | Newell Rubbermaid (Wkrs) | Madison, WI | 10/26/06 | 10/23/06
60299 | North American Philips (Union) | Bath, NY | 10/26/06 | 10/16/06
60300 | Wak Industries (Wkrs) | Gastonia, NC | 10/26/06 | 10/25/06
60301 | D-M-C Company (Comp) | Charlovoix, MI | 10/26/06 | 10/25/06
60302 | BMC Software (Comp) | Waltham, MA | 10/26/06 | 10/25/06
60303 | Jeld-Wen Premium Doors (Union) | Oshkosh, WI | 10/26/06 | 10/25/06
60304 | Gemtron Corp. (Wkrs) | Vincennes, IN | 10/26/06 | 10/20/06
60305 | Steven Labels (Wkrs) | Santa Fe Springs, CA | 10/26/06 | 10/16/06
60306 | UAW Local 969 Union Hall (Comp) | Columbus, OH | 10/26/06 | 10/20/06
60307 | Dal Tile Corp (Wkrs) | Olean, NY | 10/26/06 | 10/20/06
60308 | Lakeland Industries (State) | St. Joseph, MO | 10/27/06 | 10/25/06
60309 | Tactical Armor Products (Wkrs) | Rutledge, TN | 10/27/06 | 10/24/06
60310 | Ford Motor Company (Wkrs) | Dearborn, MI | 10/27/06 | 10/26/06
60311 | Techweld International (Wkrs) | Troy, MI | 10/27/06 | 10/25/06
60312 | Dana (Wkrs) | Fulton, KY | 10/27/06 | 10/14/06
60313 | Fairystone Fabrics (Wkrs) | Burlington, NC | 10/27/06 | 10/25/06
60314 | Arrow Acme, Inc. (UAW) | Webster City, IA | 10/27/06 | 10/26/06
60315 | Ferrero Corporation (State) | Somerset, NJ | 10/27/06 | 10/26/06
60316 | Eaton Corporation (Comp) | Gainesboro, TN | 10/27/06 | 10/25/06
60317 | General Ribbon Corp. (State) | Chatsworth, CA | 10/27/06 | 10/25/06
60318 | Delphi Automotive (IUE) | Anaheim, CA | 10/27/06 | 10/11/06
60319 | Rose Art Industries, LLC () | Wood Ridge, NJ | 10/27/06 | 10/21/06
60320 | Agilent Technologies (State) | Santa Clara, CA | 10/27/06 | 10/24/06
60321 | Meridian Automotive Systems (Comp) | Grand Rapids, MI | 10/27/06 | 10/23/06

[FR Doc. E6-19345 Filed 11-15-06; 8:45 am]

BILLING CODE 3410-30-P